DEPARTMENT OF HEALTH AND HUMAN SERVICES

Administration for Children and Families

Submission for OMB Review; Comment Request

Title: Child Care Report for High Performance Bonus.

OMB No.: New Collection.

Description: The Personal Responsibility and Work Opportunity Reconciliation Act of 1996, Pub. L. 104-193, established the Temporary Assistance for Needy Families (TANF) program under title IV-A of the Social Security Act (the Act), 42 U.S.C. 401 et seq. Section 403(a)(4) of the Act requires the Secretary to award bonuses to “high performing States”. (Indian tribes are not eligible for these bonuses.) The term “high performing State” is defined in section 403(a)(4) of the Act to mean a State that is most successful in achieving the purposes of the TANF program as specified in section 401(a) of the Act.

The final rule covering the TANF high performance bonuses to States in FY 2002 and beyond was published August 30, 2000 (65 FR 52814) followed by an interim final rule published May 10, 2001 (66 FR 23854). The final and interim final rules set forth how CCB will compute scores and rank States on the three components, i.e., Accessibility, Affordability, and Quality, that comprise the child care measure.

In FY 2002, CCB will measure State performance based upon a composite ranking of the Accessibility and Affordability components. No additional reporting burden will be required since the data/information for the Accessibility and Affordability components are currently reported under the CCDF program (ACF Reports 800 and 801). However, there will be a reporting burden (related to the Quality component) for the information States must submit if they wish to compete on the child care measure in FY 2003. The information includes:

(1) All age-specific rates for children 0-13 years of age reported by the child day care centers and family day care homes responding to the State's market rate survey; and

(2) The provider's county or, if the State uses multi-county regions to measure market rates or set maximum payment rates, the administrative region.

Respondents: States, the District of Columbia, and Territories including Puerto Rico, Guam, the Virgin Islands, American Samoa, and the Northern Marianna Islands.

Annual Burden Estimates
Instrument | Number of respondents | Number of responses per respondent | Average burden hours per response | Total burden hours
ACF-900 | 56 | 0.5 | 40 | 1,120
Estimated Total Annual Burden Hours |  |  |  | 1,120

Additional Information:

Copies of the proposed collection may be obtained by writing to the Administration for Children and Families, Office of Administration, Office of Information Services, 370 L'Enfant Promenade, SW., Washington, DC 20447, Attn: ACF Reports Clearance Officer. E-mail address: rsargis@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: lauren_wittenberg@omb.eop.gov.

Dated: July 7, 2003.
Robert Sargis,
Reports Clearance Officer.

[FR Doc. 03-17740 Filed 7-11-03; 8:45 am]

BILLING CODE 4184-01-M